DEPARTMENT OF TRANSPORTATION

National Highway Traffic Safety Administration

[Docket Nos. NHTSA-2024-0043, NHTSA-2024-0044, and NHTSA-2024-0063; Notice 1]

Mercedes-Benz AG, Mercedes-Benz USA, LLC, and Daimler Vans USA, LLC, Receipt of Petitions for Decision of Inconsequential Noncompliance

AGENCY: National Highway Traffic Safety Administration (NHTSA), Department of Transportation (DOT).

ACTION: Receipt of petitions.

SUMMARY: Mercedes-Benz AG, Mercedes-Benz USA, LLC, and Daimler Vans USA, LLC (collectively, “Mercedes-Benz”) have determined that certain model year (MY) 2001-2025 Mercedes-Benz and Daimler Vans motor vehicles do not fully comply with Federal Motor Vehicle Safety Standard (FMVSS) No. 110, Tire Selection and Rims and Motor Home/Recreation Vehicle Trailer Load Carrying Capacity Information for Motor Vehicles With a GVWR of 4,536 kilograms (10,000 pounds) or Less, or FMVSS No. 120, Tire Selection and Rims and Motor Home/Recreation Vehicle Trailer Load Carrying Capacity Information for Motor Vehicles With a GVWR of More Than 4,536 kilograms (10,000 pounds). Mercedes-Benz USA, LLC, and Daimler Vans, USA, LLC, filed noncompliance reports dated May 25, 2024, and June 24, 2024. Mercedes-Benz subsequently petitioned NHTSA (the “Agency”) on June 14, 2024, and on July 12, 2024, for a decision that the subject noncompliances are inconsequential as they relate to motor vehicle safety. This document announces receipt of Mercedes-Benz's petitions.

DATES: Send comments on or before June 16, 2025.

ADDRESSES: Interested persons are invited to submit written data, views, and arguments on this petition. Comments must refer to the docket and notice numbers cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petitions are granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID numbers for these petitions are shown in the heading of this notice.

DOT's complete Privacy Act Statement is available for review in a Federal Register notice published on April 11, 2000 (65 FR 19477-78).

FOR FURTHER INFORMATION CONTACT: Kamna Ralhan, General Engineer, NHTSA, Office of Vehicle Safety Compliance, (202) 366-6443.

SUPPLEMENTARY INFORMATION:

I. Overview: Mercedes-Benz determined that certain MY 2001-2024 Mercedes-Benz and Daimler Vans motor vehicles do not fully comply with paragraph S4.3.3 of FMVSS No. 110, Tire Selection and Rims and Motor Home/Recreation Vehicle Trailer Load Carrying Capacity Information for Motor Vehicles With a GVWR of 4,536 kilograms (10,000 pounds) or Less (49 CFR 571.110), or paragraph S5.3 of FMVSS No. 120, Tire Selection and Rims and Motor Home/Recreation Vehicle Trailer Load Carrying Capacity Information for Motor Vehicles With a GVWR of More Than 4,536 kilograms (10,000 pounds) (49 CFR 571.120).

Mercedes-Benz filed a noncompliance report (24V-373) dated May 24, 2024, and amended it on May 28, 2024, May 31, 2024, and June 14, 2024, pursuant to 49 CFR part 573, Defect and Noncompliance Responsibility and Reports. Mercedes-Benz petitioned NHTSA on June 14, 2024, for an exemption from the notification and remedy requirements of 49 U.S.C. chapter 301 on the basis that these noncompliances are inconsequential as they relate to motor vehicle safety, pursuant to 49 U.S.C. 30118(d) and 30120(h) and 49 CFR part 556, Exemption for Inconsequential Defect or Noncompliance.

Mercedes-Benz also filed two noncompliance reports on June 24, 2024 (24V-472 and 24V-473), and amended recall report 24V-473 on June 27, 2024, July 1, 2024, and July 2, 2024, pursuant to 49 CFR part 573, Defect and Noncompliance Responsibility and Reports. Mercedes-Benz submitted a petition for each noncompliance report on July 12, 2024, for an exemption from the notification and remedy requirements of 49 U.S.C. chapter 301 on the basis that these noncompliances are inconsequential as they relate to motor vehicle safety, pursuant to 49 U.S.C. 30118(d) and 30120(h) and 49 CFR part 556, Exemption for Inconsequential Defect or Noncompliance.

This notice of receipt of Mercedes-Benz's petitions is published under 49 U.S.C. 30118 and 30120 and does not represent any agency decision or another exercise of judgment concerning the merits of the petitions.

II. Vehicles Involved: Approximately 308,898 of the following Mercedes-Benz motor vehicles manufactured between September 3, 2001, and May 27, 2024, were reported by the manufacturer:

• MY 2002-2008 Mercedes-Benz G 500

• MY 2003-2011 Mercedes-Benz AMG G 55

• MY 2009-2024 Mercedes-Benz G 550

• MY 2017-2018 Mercedes-Benz G550 4x4 ² (squared)

• MY 2013-2024 Mercedes-Benz Mercedes-AMG G 63

• MY 2022-2023 Mercedes-Benz Mercedes-AMG G 63 4x4 ² (squared)

• MY 2016-2018 Mercedes-Benz Mercedes-AMG G 65

• 2022-2023 Mercedes-Benz EQB 250

• 2023-2024 Mercedes-Benz EQB 300

• 2022-2024 Mercedes-Benz EQB 350

• 2023-2024 Mercedes-Benz EQE 350 SUV

• 2023-2024 Mercedes-Benz EQE 500 SUV

• 2023-2024 Mercedes-Benz EQS 450 SUV

• 2023-2024 Mercedes-Benz EQS 580 SUV

• 2023-2025 Mercedes-Benz GLA 250

• 2023-2025 Mercedes-Benz GLB 250

• 2024 Mercedes-Benz GLC 300 Coupe

• 2023-2024 Mercedes-Benz GLC 300

• 2023-2024 Mercedes-Benz GLE 350

• 2024 Mercedes-Benz GLE 450 e

• 2023-2024 Mercedes-Benz GLE 450

• 2023-2024 Mercedes-Benz GLE 580

• 2023-2024 Mercedes-Benz GLS 450

• 2023-2024 Mercedes-Benz GLS 580

• 2024 Mercedes-Benz Maybach EQS 680 SUV

• 2023-2024 Mercedes-Benz Maybach GLS 600

• 2024 Mercedes-Benz AMG EQE SUV

• 2023-2024 Mercedes-Benz AMG GLE 53 Coupe

• 2023-2024 Mercedes-Benz AMG GLE 53

• 2023-2024 Mercedes-Benz AMG GLE 63 S

• 2023-2024 Mercedes-Benz AMG GLS 63

Approximately 680,077 of the following Daimler Vans motor vehicles manufactured between December 20, 2000, and June 14, 2024, were also reported by the manufacturer:

• MY 2003-2021 Freightliner Sprinter Van 2500

• MY 2001-2021 Freightliner Sprinter Van 3500

• MY 2005-2009 Dodge Sprinter Van 2500

• MY 2005-2009 Dodge Sprinter Van 3500

• MY 2007-2023 Mercedes-Benz Sprinter Van 1500

• MY 2007-2024 Mercedes-Benz Sprinter Van 2500

• MY 2007-2024 Mercedes-Benz Sprinter Van 3500

• MY 2018-2024 Mercedes-Benz Sprinter Van 3500XD

• MY 2016-2023 Metris Van

• MY 2017-2024 Mercedes-Benz Sprinter Van 4500

III. Rule Requirements: Paragraphs S4.3.3 of FMVSS No. 110 and S5.3 of FMVSS No. 5.3 include the requirements relevant to the petitions. Paragraph S4.3.3 requires that all vehicles be labeled with the rim size and type designation for the appropriate tire after the required GAWR certification label, in block capital letters and numbers in the English language, in a font size no less than 2.4 millimeters in height. Prior to September 1, 2003, paragraph S5.3 of FMVSS No. 120 provided the relevant labeling requirements for multipurpose passenger vehicles. Effective September 1, 2003, the applicability of FMVSS Nos. 110 and 120 were revised, such that the requirements for the certification label affixed to certain vehicles with a GVWR of 10,000 pounds or less became those of FMVSS No. 110, paragraph S4.3.3 (68 FR 38116). Some of the subject vehicles were manufactured prior to September 1, 2003, and those vehicles were subject to the tire and rim certification label requirements set forth in FMVSS No. 120, paragraph S5.3. Those vehicles in the population with a GVWR greater than 10,000 pounds are still subject to the label requirements in FMVSS No. 120.

IV. Noncompliance: Mercedes-Benz explains that the subject vehicles are equipped with placards (also referred to as “certification labels”) that do not comply with labeling requirements in FMVSS No. 110 and FMVSS No. 120 because the placards on the driver's side B-pillar are missing the required information on tire and rim size, as well as the manufacturer's recommended cold inflation pressure.

V. Summary of Mercedes-Benz's Petition: The following views and arguments presented in this section, “V. Summary of Mercedes-Benz's Petition,” are the views and arguments provided by Mercedes-Benz. They have not been evaluated by the Agency and do not reflect the views of the Agency. Mercedes-Benz describes the subject noncompliance and contends that the noncompliances are inconsequential as they relate to motor vehicle safety.

Mercedes-Benz states that NHTSA has “an unbroken line of precedent” of granting inconsequential noncompliance petitions in the case of labeling omissions, particularly in those cases where the information provided on the placards can be found in convenient alternate sources. In support of its petition, Mercedes-Benz submitted the following reasoning:

1. Mercedes-Benz notes that NHTSA distinguishes between labeling requirements and performance requirements and that the threshold to qualify as an inconsequential noncompliance is lower for labeling requirements with no performance implications. Mercedes-Benz cites Federal Motor Vehicle Safety Standards; Tires, 68 FR 38116 (June 26, 2003), to illustrate that the purpose of FMVSS No. 110 and FMVSS No. 120 is to ensure safe and operational performance by requiring that vehicles are equipped with tires of adequate load rating and rims of appropriate size and type designation. Mercedes-Benz also cites two previous petitions: Chrysler, LLC, Grant of Petition for Decision of Inconsequential Noncompliance, 73 FR 39779 (July 10, 2008); and Volkswagen of America, Inc., Grant of Application for Decision of Inconsequential Noncompliance, 67 FR 19803 (April 23, 2002), to show that there is established precedent to NHTSA granting inconsequential noncompliance in cases involving labeling noncompliances if the information contained is readily available to potential users.

2. Mercedes-Benz states that the tire and rim size information as well as recommended cold inflation pressure, while not found on the required label in the required location, can be easily found in other locations throughout the vehicle and, therefore does not create a significantly greater risk to an occupant than a vehicle that complies with FMVSS No. 110 and FMVSS No. 120. For the GLE-Series, GLS-Series, EQB-Series, GLA-Series, GLB-Series, EQE-Series, EQS-Series, GLC-Series, G-Series multipurpose passenger vehicles and Sprinter Metris vans with a GVWR less than 10,000 pounds, the tire size and recommended cold inflation pressure can be found on the Tire and Loading Information Placard near the certification label on the driver's side B-pillar. For the Metris and Sprinter vans with a GVWR over 10,000 pounds manufactured before June 2023, the label can be found on the seat base “immediately adjacent to the certification label.” For those Sprinter vans with a GVWR greater than 10,000 pounds manufactured after June 2023, the label can be found on the driver's side B-pillar. The tire size is also on the original equipment tires and recommended cold inflation pressure can also be found on a label inside the fuel filler or charging flap, or in the case of the EQE and EQS vehicles, on the driver's side B-pillar. The rim size can be found on the vehicle's rims. Furthermore, Mercedes-Benz indicates that any Mercedes-Benz dealer/service/repair workshop using the Mercedes-Benz Global Workshop Information System, the Mercedes-Benz Customer Assistance Center, and MBUSAtirecenter.com can advise the user with the appropriate tire and rim size, as well as the appropriate tire inflation pressure.

3. Mercedes-Benz suggests that NHTSA precedent supports granting its petition, asserting that NHTSA has granted every petition for inconsequential noncompliance related to FMVSS No. 110 S4.3.3 and FMVSS No. 120 S5.3 that Mercedes-Benz has found. Mercedes-Benz cites several similar petitions related to FMVSS Nos. 110 and 120 that were all granted inconsequential noncompliance by NHTSA on the basis that the required information was provided through other conspicuous labels or other readily accessible locations. The cases cited are:

• Kia Motors America, Inc., Grant of Petition for Decision of Inconsequential Noncompliance, 85 FR 39676 (July 1, 2020)—granted to Kia Telluride vehicles that omitted appropriate rim size on the certification label required by FMVSS No. 110 but had the rim size embossed on the original rim itself.

• Volkswagen of America, Inc., Grant of Petition for Decision of Inconsequential Noncompliance, 69 FR 60459 (October 8, 2004)—granted to Volkswagen Touareg that omitted rim size labeling required by FMVSS No. 120 but had the rim size embossed on the original rim itself.

• Chrysler, LLC, Grant of Petition for Decision of Inconsequential Noncompliance, 73 FR 39779 (July 10, 2008)—granted to certain Dodge Magnum, Jeep Compass, and Jeep Patriot vehicles that omitted tire and rim size information on the certification label but included the tire size on the Tire and Loading Information Placard and the rim size could be found inscribed on the original rims provided with the vehicle.

• Hyundai-Kia America Technical Center, Inc., Grant of Petition for Decision of Inconsequential Noncompliance, 78 FR 38445 (June 26, 2013)—granted to certain Hyundai Veracruz vehicles that were missing appropriate tire size labeling required by FMVSS No. 110 but complied with all other safety performance requirements of FMVSS No. 110.

Mercedes-Benz concludes by stating its belief that the subject noncompliances are inconsequential as they relate to motor vehicle safety and its petitions to be exempted from providing notification of the noncompliance, as required by 49 U.S.C. 30118, and a remedy for the noncompliances, as required by 49 U.S.C. 30120, should be granted.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on these petitions only applies to the subject vehicles that Mercedes-Benz no longer controlled at the time it determined that the noncompliances existed. However, any decision on these petitions does not relieve vehicle distributors and dealers of the prohibitions on the sale, offer for sale, or introduction or delivery for introduction into interstate commerce of the noncompliant vehicles under their control after Mercedes-Benz notified them that the subject noncompliance existed.

(Authority: 49 U.S.C. 30118, 30120: delegations of authority at 49 CFR 1.95 and 501.8)

Otto G. Matheke III,
Director, Office of Vehicle Safety Compliance.

[FR Doc. 2025-08809 Filed 5-15-25; 8:45 am]

BILLING CODE 4910-59-P